DEPARTMENT OF ENERGY

Federal Energy Regulatory Commission

[Docket Nos. RT02-2-000, RT04-2-000, ER04-116-000, and ER04-157-000]

State-Federal Regional RTO Panels, ISO New England Inc., Bangor Hydro-Electric Company, New England Transmission Owners; Notice of State-Federal Regional Panel Discussion

January 2, 2004.

At the request of the New England Conference of Public Utility Commissioners (NECPUC), on January 8, 2004, from approximately 1 p.m. to 3 p.m. members of the Federal Energy Regulatory Commission will hold a discussion with NECPUC Commissioners and staff to discuss issues that are related to ISO New England Inc. RTO formation currently pending before the Commission.

This conference is established pursuant to the Order Announcing the Establishment of State-Federal Regional Panels to Address RTO Issues, Modifying the Application of Rule 2201 in the Captioned Dockets, and Clarifying Order No. 607, 97 FERC ¶ 61,182 (2001), reh'g denied, 98 FERC ¶ 61,309 (2002), amended by 99 FERC ¶ 61,092 (2002).

Attendance at this meeting is limited to the Commission, NECPUC commissioners, and their respective staffs. To accommodate Federal sunshine rules, the meeting will not be attended by more than two FERC Commissioners at the same time. The discussion will take place at the offices of the Federal Energy Regulatory Commission, 888 First Street, NE., Washington, DC. A transcript of the discussion will be placed in the above-captioned dockets.

Transcripts of the conference will be immediately available from Ace Reporting Company (202-347-3700 or 1-800-336-6646) for a fee. They will be available for the public on the Commission's eLibrary system seven calendar days after FERC receives the transcript.

Linda Mitry,
Acting Secretary.

[FR Doc. E4-13 Filed 1-9-04; 8:45 am]

BILLING CODE 6717-01-P